DEPARTMENT OF DEFENSE

Department of the Army; Corps of Engineers

Grant of Exclusive Licenses

AGENCY: U.S. Army Corps of Engineers, DOD.

ACTION: Notice; correction.

SUMMARY: The notice published on Friday, June 15, 2001 at 66 FR 32609 announcing a prospective exclusive patent license in European Patent Application Office application number 94926514.4 should be revised by deleting the Supplementary Information and substituting the following SUPPLEMENTARY INFORMATION.

FOR FURTHER INFORMATION CONTACT: Mr. Phil Stewart (601) 634-4113. e-mail stewarp@ex1.wes.army.mil.

SUPPLEMENTARY INFORMATION: The Concrete Armor Unit was invented by Jeffrey A. Melby and George F. Turk. Rights to the patent applications identified above have been assigned to the United States of America as represented by the Secretary of the Army. The United States of America as represented by the Secretary of the Army intends to grant an exclusive license for all fields of use, in the manufacture, use, and sale of the concrete armor units in the territories and possessions, including territorial waters, in each of the countries listed above to Sogreah, a corporation with principal offices at Grenoble, France. Pursuant to 37 CFR 404.7(b)(1)(i), any interested party may file a written objection to this prospective exclusive license agreement.

Richard L. Frenette,
Counsel.

[FR Doc. 01-18982 Filed 7-30-01; 8:45 am]

BILLING CODE 3710-92-M